ENVIRONMENTAL PROTECTION AGENCY

40 CFR Part 52

[EPA-R04-OAR-2013-0813; FRL-9911-44-Region 4]

Approval and Promulgation of Implementation Plans; Alabama, Florida, Georgia, Kentucky, Mississippi, North Carolina, South Carolina and Tennessee; Removal of Obsolete Regulations

AGENCY: Environmental Protection Agency (EPA).

ACTION: Final rule; notice of administrative change.

SUMMARY: The Environmental Protection Agency (EPA) is approving the removal/revision to over 30 provisions in the Code of Federal Regulations (CFR) in the Alabama, Florida, Georgia, Kentucky, Mississippi, North Carolina, South Carolina and Tennessee State Implementation Plan (SIP) subparts because they are unnecessary or obsolete. This action makes no substantive changes to these SIPs and imposes no new requirements. Removal of outdated material from the air program subparts for these states is non-substantive in nature and is designed to improve cost effectiveness and usability of the CFR. This action also updates certain provisions by correcting state agencies' office addresses and correcting CFR publication errors in two provisions.

DATES: This final rule is effective May 27, 2014.

FOR FURTHER INFORMATION CONTACT: Sean Lakeman of the Regulatory Development Section, in the Air Planning Branch, Air, Pesticides and Toxics Management Division, U.S. Environmental Protection Agency, Region 4, 61 Forsyth Street SW., Atlanta, Georgia 30303-8960. Mr. Lakeman may be reached by phone at (404) 562-9043, or via electronic mail at lakeman.sean@epa.gov.

SUPPLEMENTARY INFORMATION:

Table of Contents

I. Introduction

II. Removal of Obsolete or Unnecessary Rules and Clarifications to Certain Rules

III. Final Action

IV. Statutory and Executive Order Reviews

I. Introduction

This action is a “housekeeping” exercise that is being taken pursuant to Executive Order 13563—Improving Regulation and Regulatory Review. One aspect of this action involves an effort to reduce the number of pages in the CFR by identifying those provisions in 40 CFR part 52 that are duplicative, outdated or obsolete. This action pertains to eight subparts in 40 CFR part 52 for eight states. Those eight states are Alabama, Florida, Georgia, Kentucky, Mississippi, North Carolina, South Carolina and Tennessee.

EPA is removing/revising provisions from these states' subparts of 40 CFR part 52 because they are outdated or obsolete in whole or in part. This action also revises certain CFR provisions by correcting state agencies' office addresses and correcting CFR publication errors in two provisions. One aspect of EPA's action, affecting all eight states, removes historical information found in the “Original Identification of plan” sections in 40 CFR part 52. These paragraphs are no longer necessary because EPA promulgated summary tables to replace these paragraphs in previous administrative actions that are described in more detail below. These summary tables describe the regulations, source-specific actions, and non-regulatory requirements which comprise the SIPs for the eight states.

Although this action will remove outdated or obsolete information from future CFR publications, this historical information will continue to be available in the CFR annual editions, Title 40 part 52 (years 1999 through 2012). These annual editions are available on line at the following Uniform Resource Locator (url) address: http://www.gpo.gov/fdsys/browse/collectionCfr.action?collectionCode=CFR.

II. Removal of Obsolete or Unnecessary Rules and Clarifications to Certain Rules

EPA has reviewed the subpart for each of the states and has identified provisions that should be removed or clarified for the reasons set forth as follows:

A. Alabama

§ 52.53 Approval Status

Paragraph 52.53, the third sentence states, “In addition, continued satisfaction of the requirements of part D for the ozone portion of the SIP depends on the adoption and submittal of reasonably available control technology (RACT) requirements by July 1, 1980 for the sources covered by control technique guidelines (CTGs) issued between January 1978 and January 1979 and adoption and submittal by each subsequent January of additional RACT requirements for sources covered by CTGs issued by the previous January.” This sentence is obsolete. It is being removed because the current ozone portion of the State's implementation plan is subject to the 1990 Clean Air Act (CAA or Act), and the State has no further obligation to adopt and submit CTG based RACT requirements under the 1977 CAA.

§ 52.56 Review of New Sources and Modifications

Paragraph 52.56 refers to conditional approval of Alabama's Nonattainment New Source Review (NSR) program based on a commitment that Alabama submit necessary corrections by March 9, 1984. Section 110(k)(4) of the CAA limits the duration of conditional approvals, i.e., the State is required to adopt the required revisions by no later than one year of the issuance of the conditional approval. However, on November 2, 1983, EPA postponed calling for the regulatory changes required under the conditional approval. See 48 FR 50686. This paragraph is obsolete because the conditional approval referenced is no longer applicable to the Alabama nonattainment NSR program and is therefore being removed. Also note that Alabama's NSR program was approved into the Alabama SIP at section 52.50(c).

§ 52.66 Control Strategy: Ozone

Paragraph 52.66 describes the disapproval of Alabama's March 16, 1995, redesignation request for the Birmingham marginal 1-hour ozone nonattainment area and required Alabama to submit an attainment demonstration by April 27, 2001. This paragraph is obsolete and is being removed because EPA has subsequently redesignated Birmingham for the 1-hour and 8-hour ozone national ambient air quality standards (NAAQS). See 69 FR 11798 and 71 FR 27636; see also 40 CFR 52.50(e).

§ 52.69 Original Identification of Plan Section

Paragraphs 52.69(b) and (c) of this section contains historical information only about EPA's approval actions for the Alabama SIP which occurred between May 31, 1972, and December 1, 1998. On December 22, 1998 (63 FR 70669), EPA reorganized the Identification of plan section in subpart B by moving the historical SIP information in section 52.50 to paragraphs 52.69(b) and (c), and adding tables that summarize Alabama's SIP in paragraphs 52.50(a) through (e). Paragraphs 52.69(b) and (c) are being removed because EPA has determined that it is no longer necessary to include these paragraphs because the contents of the currently approved SIP are now identified in 52.50(a) through (e). Paragraph 52.69(a) is being amended to state that this historical information will continue to be available in the CFR annual editions, Title 40 part 52 (years 1999 through 2012). These annual editions are available on line at the following url address: http://www.gpo.gov/fdsys/browse/collectionCfr.action?collectionCode=CFR.

B. Florida

§ 52.522 Approval Status

Paragraph 52.522, the third sentence states, “In addition, continued satisfaction of the requirements of part D for the ozone portion of the SIP depends on the adoption and submittal of reasonably available control technology (RACT) requirements by July 1, 1980 for the sources covered by control technique guidelines (CTGs) issued between January 1978 and January 1979 and adoption and submittal by each subsequent January of additional RACT requirements for sources covered by CTGs issued by the previous January.” This sentence is obsolete. It is being removed because the current ozone portion of the State's implementation plan is subject to the 1990 CAA, and the State has no further obligation to adopt and submit CTG based RACT SIP requirements under the 1977 CAA.

§ 52.524 Compliance Schedules

Paragraphs 52.524(a) and (b) were promulgated on June 20, 1973 (38 FR 16144) and August 23, 1973 (38 FR 22736), respectively. At that time there were issues as to whether plants could comply with SIP-approved emission standards for SO2 because of a lack of available low-sulfur coal and the availability of air pollution control equipment. These paragraphs set forth compliance schedules by which boilers or furnaces subject to the emission limitation requirements in Florida Regulations (subsection 17-2.04) must come into compliance with the applicable emission limitations for SO2. This section is obsolete. The dates listed in this compliance schedule have long since passed. EPA has therefore determined that it is no longer necessary to codify the information found in paragraphs 52.524(a) and (b). Paragraph 52.524(a) is being amended to state that this historical information will continue to be available in the CFR annual editions, Title 40 part 52 (years 1999 through 2012). These annual editions are available on line at the following url address: http://www.gpo.gov/fdsys/browse/collectionCfr.action?collectionCode=CFR.

§ 52.527 Control Strategy: General

Paragraph 52.527(a), was added when a Florida April 7, 1980, submission concerning a testing and research rule was disapproved by EPA on November 17, 1983 (see 48 FR 52303). As the rule was not approved into the Florida SIP, EPA has deemed this section referencing the 1983 disapproval to be obsolete and it is therefore being removed.

§ 52.532 Extension

Paragraph 52.532 gave Florida an extension until July 1, 1980, to submit plans to attain and maintain the secondary particulate matter standard in Jacksonville and Tampa nonattainment areas. The secondary particulate matter Florida maintenance plan for these areas was approved on May 2, 1993 (48 FR 19715). This paragraph is therefore obsolete and is being removed.

§ 52.536 Original Identification of Plan Section

Paragraphs 52.536(b) and (c) of this section contains historical information only about EPA's approval actions for the Florida SIP which occurred between May 31, 1972, and July 1, 1998. On June 16, 1999 (64 FR 32346), EPA reorganized the Identification of plan section in subpart K by moving the historical SIP information in section 52.520 to paragraphs 52.536(b) and (c), and adding tables that summarize Florida's SIP in paragraphs 52.520(a) through (e). Paragraphs 52.536(b) and (c) are being removed because EPA has determined that it is no longer necessary to include these paragraphs because the contents of the currently approved SIP are now identified in 52.520(a) through (e). Paragraph 52.536(a) is being amended to state that this historical information will continue to be available in the CFR annual editions, Title 40 part 52 (years 1999 through 2012). These annual editions are available on line at the following url address: http://www.gpo.gov/fdsys/browse/collectionCfr.action?collectionCode=CFR.

C. Georgia

§ 52.590 Original Identification of Plan Section

Paragraphs 52.590(b) and (c) of this section contains historical information only about EPA's approval actions for the Georgia SIP which occurred between May 31, 1972, and December 1, 1998. On May 21, 1999 (64 FR 27699), EPA reorganized the Identification of plan section in subpart L by moving the historical SIP information in section 52.570 to paragraphs 52.590(b) and (c), and adding tables that summarize Georgia's SIP in paragraphs 52.570(a) through (e). Paragraphs 52.590(b) and (c) are being removed because EPA has determined that it is no longer necessary to include these paragraphs because the contents of the currently approved SIP are now identified in 52.570(a) through (e). Paragraph 52.590(a) is being amended to state that this historical information will continue to be available in the CFR annual editions, Title 40 part 52 (years 1999 through 2012). These annual editions are available on line at the following url address: http://www.gpo.gov/fdsys/browse/collectionCfr.action?collectionCode=CFR.

D. Kentucky

§ 52.923 Approval Status

Paragraph 52.923(a), the third sentence states, “In addition, continued satisfaction of the requirements of part D for the ozone portion of the SIP depends on the adoption and submittal of reasonably available control technology (RACT) requirements by July 1, 1980 for the sources covered by control technique guidelines (CTGs) issued between January 1978 and January 1979 and adoption and submittal by each subsequent January of additional RACT requirements for sources covered by CTGs issued by the previous January.” This paragraph is obsolete. It is being removed because the current ozone portion of the Commonwealth's SIP is subject to the 1990 CAA, and the Commonwealth has no further obligation to adopt and submit CTG based RACT requirements under the 1977 CAA.

§ 52.926 Attainment Dates for National Standards

Paragraph 52.926 presents the latest dates by which historical national standards were to be attained. This section is obsolete and is being removed. The latest of these dates was December 31, 1987. All of these attainment dates have been superseded by the 1990 CAA and by revised attainment dates for CO, NO2, ozone, PM, and SO2 in response to the issuance of revised NAAQS. See 40 CFR part 50 and 76 FR 54294 for CO.

§ 52.927 Compliance Schedules

Sections 52.927(a) and (b) were promulgated on June 20, 1973 (38 FR 16144) and revised several times. At that time there were issues as to whether plants could comply with SIP approved emission standards for SO2 because of a lack of available low-sulfur coal and the availability of air pollution control equipment. These paragraphs set forth compliance schedules by which boilers or furnaces subject to the emission limitation requirements in Kentucky Regulations must come into compliance with the applicable emission limitations for SO2. This section is obsolete. The dates listed in this compliance schedule have long since passed. EPA has therefore determined that it is no longer necessary to codify the information found in paragraphs 52.927(a) and (b). Paragraph 52.927(a) is being amended to state that this historical information will continue to be available in the CFR annual editions, Title 40 part 52 (years 1999 through 2012). These annual editions are available on line at the following url address: http://www.gpo.gov/fdsys/browse/collectionCfr.action?collectionCode=CFR

§ 52.931 Significant Deterioration of Air Quality

Paragraph 52.931(d) is being revised to correct the addresses for the Commonwealth of Kentucky, Energy and Environment Cabinet, Department of Environmental Protection, and Louisville Metro Air Pollution Control District.

§ 52.934 VOC Rule Deficiency Correction

Paragraphs 52.934(a) and (b) of this section contains historical information only about EPA's approval actions of regulations for the Jefferson County portion of the Commonwealth of Kentucky SIP. On October 23, 2001 (66 FR 53658), EPA reorganized the Identification of plan section for subpart S by adding tables that summarize the Jefferson County portion of the Commonwealth of Kentucky's SIP in paragraphs 52.920(a) through (e). Paragraphs 52.934(a) and (b) are being removed because EPA has determined that it is no longer necessary to include these paragraphs because the contents of the Jefferson County portion of the currently approved SIP are now identified in 52.920(a) through (e). Paragraph 52.939(a) is being amended to state that this historical information from paragraphs 52.934(a) and (b) will continue to be available in the CFR annual editions, Title 40 part 52 (years 1999 through 2012). These annual editions are available on line at the following url address: http://www.gpo.gov/fdsys/browse/collectionCfr.action?collectionCode=CFR. Paragraph 52.934(c) noted deficiencies with and required corrections to an emissions trading rule for Jefferson County. This paragraph is obsolete and is being removed because EPA has subsequently redesignated Jefferson County for the 1997 8-hour ozone NAAQS (see 72 FR 36601 (July 5, 2007)) and this rule was never approved into the SIP.

§ 52.939 Original Identification of Plan Section

Paragraphs 52.939(b) and (c) of this section contains historical information only about EPA's approval actions for the Kentucky SIP which occurred between May 31, 1972, and March 1, 1999. On May 27, 1999 (64 FR 28748), EPA reorganized the Identification of plan section (section 52.920) for subpart S by moving the historical SIP information in section to 52.939(b) and (c) and adding tables that summarize Kentucky's SIP in paragraphs 52.920(a) through (e). Paragraphs 52.939(b) and (c) are being removed because EPA has determined that it is no longer necessary to include these paragraphs because the contents of the currently approved SIP are now identified in 52.920(a) through (e). Paragraph 52.939(a) is being amended to state that this historical information will continue to be available in the CFR annual editions, Title 40 part 52 (years 1999 through 2012). These annual editions are available on line at the following url address: http://www.gpo.gov/fdsys/browse/collectionCfr.action?collectionCode=CFR.

E. Mississippi

§ 52.1272 Approval Status

Paragraph 52.1272(b) is being removed because the language was removed in a prior EPA final action (see 76 FR 5274 (January 31, 2011)), but this paragraph was not removed from 40 CFR 52.

§ 52.1281 Original Identification of Plan Section

Paragraphs 52.1281(b) and (c) of this section contains historical information only about EPA's approval actions for the Mississippi SIP which occurred between May 31, 1972, and July 1, 1997. On July 1, 1997 (62 FR 35441), EPA reorganized the Identification of plan section (section 52.1270) for subpart Z by moving the historical SIP information in 52.1270 to paragraphs 52.1281(b) and (c), and adding tables that summarize Mississippi's SIP in paragraphs 52.1270 (a) through (e). Paragraphs 52.1281(b) and (c) are being removed because EPA has determined that it is no longer to include these paragraphs because the contents of the currently approved SIP are now identified in 52.1270(a) through (e). Paragraph 52.1281(a) is being amended to state that this historical information will continue to be available in the CFR annual editions, Title 40 part 52 (years 1999 through 2012). These annual editions are available on line at the following url address: http://www.gpo.gov/fdsys/browse/collectionCfr.action?collectionCode=CFR.

F. North Carolina

§ 52.1772 Approval Status

Paragraph 52.1772(a), the third sentence states, “In addition, continued satisfaction of the requirements of part D for the ozone portion of the SIP depends on the adoption and submittal of reasonably available control technology (RACT) requirements by July 1, 1980 for the sources covered by control technique guidelines (CTGs) issued between January 1978 and January 1979 and adoption and submittal by each subsequent January of additional RACT requirements for sources covered by CTGs issued by the previous January.” This paragraph is obsolete. It is being removed because the current ozone portion of the State's implementation plan is subject to the 1990 CAA, and the State has no further obligation to adopt and submit CTG based RACT requirements under the 1977.

§ 52.1778 Significant Deterioration of Air Quality

Paragraph 52.1778(c) is being revised to correct the agency title and/or address for Mecklenburg County and Forsyth County.

§ 52.1780 VOC Rule Deficiency Correction

Paragraph 52.1780 requires North Carolina to correct a deficiency regarding capture control device efficiency, citing state requirement 2D.914. The information in this section is obsolete and is being removed because the correction to 2D.0914 was approved on November 10, 1999 (64 FR 61213) and is codified in paragraph 52.1770(c).

§ 52.1783 Original Identification of Plan Section

Paragraphs 52.1783(b) and (c) of this section contains historical information only about EPA's approval actions for the North Carolina SIP which occurred between May 31, 1972, and December 1, 1998. On May 20, 1999 (64 FR 27465), EPA reorganized the Identification of plan section (section 52.1770) for subpart II by moving the historical SIP information in section 52.1770 to paragraphs 52.69(b) and (c), and adding tables that summarize North Carolina's SIP in paragraphs 52.1770 (a) through (e). Paragraphs 52.1783(b) and (c) are being removed because EPA has determined that it is no longer necessary to include these paragraphs because the contents of the currently approved SIP are now identified in 52.1770(a) through (e). Paragraph 52.1783(a) is being amended to state that this historical information will continue to be available in the CFR annual editions, Title 40 part 52 (years 1999 through 2012). These annual editions are available on line at the following url address: http://www.gpo.gov/fdsys/browse/collectionCfr.action?collectionCode=CFR.

G. South Carolina

§ 52.2122 Approval Status

Paragraph 52.2122(a), the third sentence states, “In addition, continued satisfaction of the requirements of part D for the ozone portion of the SIP depends on the adoption and submittal of reasonably available control technology (RACT) requirements by July 1, 1980 for the sources covered by control technique guidelines (CTGs) issued between January 1978 and January 1979 and adoption and submittal by each subsequent January of additional RACT requirements for sources covered by CTGs issued by the previous January.” This paragraph is obsolete. It is being removed because the current ozone portion of the State's implementation plan is subject to the 1990 CAA, and the State has no further obligation to adopt and submit CTG based RACT requirements under the 1977 CAA.

§ 52.2130 Control Strategy: Sulfur Oxides and Particulate Matter

This section is being revised to correctly reflect that Bowater is not part of SCE & G. The sentence currently reads “This certification does not apply to Public Service Authority—Winyah, SCE & G—Bowater, and SCE & G—Williams.” and should read “This certification does not apply to Public Service Authority—Winyah, Bowater, and SCE & G—Williams.”

§ 52.2134 Original Identification of Plan Section

Paragraphs 52.2134(b) and (c) of this section contains historical information only about EPA's approval actions for the South Carolina SIP which occurred between May 31, 1972, and July 1, 1997. On July 1, 1997 (62 FR 35441), EPA reorganized the Identification of plan section in subpart PP by moving the historical SIP information in 52.2120 to paragraphs 52.2134(b) and (c), and adding tables that summarize South Carolina's SIP in paragraphs 52.2120 (a) through (e). Paragraphs 52.2134(b) and (c) are being removed because EPA has determined that it is no longer necessary to include these paragraphs because the contents of the currently approved SIP are now identified in 52.2120(a) through (e). Paragraph 52.2134(a) is being amended to state that this historical information will continue to be available in the CFR annual editions, Title 40 part 52 (years 1999 through 2012). These annual editions are available on line at the following url address: http://www.gpo.gov/fdsys/browse/collectionCfr.action?collectionCode=CFR.

H. Tennessee

§ 52.2222 Approval Status

Paragraph 52.2222(a), the third sentence states, “In addition, continued satisfaction of the requirements of part D for the ozone portion of the SIP depends on the adoption and submittal of reasonably available control technology (RACT) requirements by July 1, 1980 for the sources covered by control technique guidelines (CTGs) issued between January 1978 and January 1979 and adoption and submittal by each subsequent January of additional RACT requirements for sources covered by CTGs issued by the previous January.” This paragraph is obsolete. It is being removed because the current ozone portion of the State's implementation plan is subject to the 1990 CAA, and the State has no further obligation to adopt and submit CTG based RACT requirements under the 1977 CAA.

Paragraph 52.2222(c) of this section contains historical information only about EPA's approval actions of regulations for the Nashville-Davidson County portion of the Tennessee SIP. On October 6, 2005 (70 FR 58321), EPA reorganized the Identification of plan section (section 52.2220) for subpart RR by summarizing Nashville-Davidson County portion of the Tennessee's SIP in paragraphs 52.2220(a) through (e). Paragraph 52.2222(c) is being removed because EPA has determined that it is no longer necessary to include the information found in this paragraph because the contents of the currently approved Nashville-Davidson portion of the SIP are now identified in 52.2220(a) through (e). Paragraph 52.2239(a) is being amended to state that this historical information from paragraph 52.2222(c) will continue to be available in the CFR annual editions, Title 40 part 52 (years 1999 through 2012). These annual editions are available on line at the following url address: http://www.gpo.gov/fdsys/browse/collectionCfr.action?collectionCode=CFR.

§ 52.2223 Compliance Schedules

Sections 52.2223(a), (b), (c), (d), (e) and (f) were promulgated on June 20, 1973 (38 FR 16144) and revised several times. At that time there were issues as to whether plants could comply with SIP approved emission standards for SO2 because of a lack of available low-sulfur coal and the availability of air pollution control equipment. These paragraphs set forth compliance schedules by which boilers or furnaces subject to the emission limitation requirements in Tennessee Regulations must come into compliance with the applicable emission limitations for SO2. This section is obsolete. The dates listed in this compliance schedule have long since passed. EPA has therefore determined that it is no longer necessary to codify the information found in paragraphs 52.2223(a), (b, (c), (d), (e) and (f). Paragraph 52.2223(a) is being amended to state that this historical information will continue to be available in the CFR annual editions, Title 40 part 52 (years 1999 through 2012). These annual editions are available on line at the following url address: http://www.gpo.gov/fdsys/browse/collectionCfr.action?collectionCode=CFR.

§ 52.2226 Extensions

Section 52.2226 codifies two attainment plan submittal extensions for specific areas in Tennessee. Both extensions were until July 1, 1980. Section 52.2226 is obsolete and is being removed because EPA has determined that it is no longer necessary to codify the expired extensions found in this section.

§ Attainment Dates for National Standards

Section 52.2230 presents the latest dates by which historical national standards were to be attained. This entire section is obsolete and is being removed. The latest of these dates was December 31, 1987. All of these attainment dates have been superseded by the 1990 CAA and by revised attainment dates for CO, NO2, ozone, PM, and SO2 in response to the issuance of revised NAAQS. See 40 CFR part 50 and 76 FR 54294 for CO.

§ Significant Deterioration of Air Quality

Section 52.2233(c)(1) is being revised to update the addresses of the State and Local Agencies.

§ Original Identification of Plan Section

Paragraphs 52.2239(b) and (c) of this section contains historical information only about EPA's approval actions for the Tennessee SIP which occurred between May 31, 1972, and December 1, 1998. On June 30, 1999 (64 FR 35009), EPA reorganized the Identification of plan section in subpart RR by moving the historical SIP information in section 52.2220 to paragraphs 52.2239(b) and (c), and adding tables that summarize Tennessee's SIP in paragraphs 52.2220(a) through (e). Paragraphs 52.2239(b) and (c) are being removed because EPA has determined that it is no longer necessary to include these paragraphs because the contents of the currently approved SIP are now identified in 52.2220(a) through (e). Paragraph 52.2239(a) is being amended to state that this historical information will continue to be available in the CFR annual editions, Title 40 part 52 (years 1999 through 2012). These annual editions are available on line at the following url address: http://www.gpo.gov/fdsys/browse/collectionCfr.action?collectionCode=CFR.

III. Final Action

EPA is removing/revising provisions the above-reference rules from these states' subparts of 40 CFR part 52 because they are outdated or obsolete in whole or in part. This action also revises certain CFR provisions by correcting state agencies' office addresses and correcting CFR publication errors in two provisions.

EPA has determined that today's action falls under the “good cause” exemption in section 553(b)(3)(B) of the Administrative Procedure Act (APA). Upon a finding of “good cause,” the APA authorizes agencies to dispense with public participation. In addition, APA section 553(d)(3) allows an agency to make a rule effective immediately (thereby avoiding the 30-day delayed effective date otherwise provided for in the APA). Under section 553 of the APA, an agency may find good cause where procedures are “impractical, unnecessary, or contrary to the public interest.”

Today's action is a “housekeeping” action that merely removes or revises outdated or obsolete CFR provisions. This action makes no substantive changes to any SIP. Public comment is “unnecessary” since this action does not change existing law and immediate publication in the CFR benefits the public by simplifying the CFR by removing outdated and obsolete provisions. In addition, immediate publication of updated state agencies' office addresses benefits the public.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). Because the Agency has made a “good cause” finding that this action is not subject to notice-and-comment requirements under the APA or any other statute as indicated above, it is not subject to the regulatory flexibility provisions of the Regulatory Flexibility Act (5 U.S.C 601 et seq.), or to sections 202 and 205 of the Unfunded Mandates Reform Act (UMRA) of 1995 (Pub. L. 104-4). In addition, this action does not significantly or uniquely affect small governments or impose a significant intergovernmental mandate, as described in sections 203 and 204 of UMRA. This action merely removes rules from subparts of 40 CFR part 52 because they pertain to state regulations that are outdated or legally obsolete in whole or in part and impose no additional requirements beyond those imposed by state law. Accordingly, the Administrator certifies that this rule will not have a significant economic impact on a substantial number of small entities under the Regulatory Flexibility Act (5 U.S.C. 601 et seq.). Because this rule merely removes rules from subparts of 40 CFR part 52 because they pertain to state regulations that are outdated or legally obsolete in whole or in part and does not impose any additional enforceable duty beyond that required by state law, does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This rule also does not have Federalism implications because it does not have substantial direct effects on the states, on the relationship between the national government and the states, or on the distribution of power and responsibilities among the various levels of government, as specified in Executive Order 13132 (64 FR 43255, August 10, 1999). This rule merely removes rules from subparts of 40 CFR part 52 because they pertain to state regulations that are outdated or legally obsolete in whole or in part and does not alter the relationship or the distribution of power and responsibilities established in the CAA. This rule also is not subject to Executive Order 13045 “Protection of Children from Environmental Health Risks and Safety Risks” (62 FR 19885, April 23, 1997), because it is not economically significant. In addition, this rule does not involve technical standards, thus the requirements of section 12(d) of the National Technology Transfer and Advancement Act of 1995 (15 U.S.C. 272 note) do not apply. This rule also does not impose an information collection burden under the provisions of the Paperwork Reduction Act of 1995 (44 U.S.C. 3501 et seq.), nor does it provide EPA with the discretionary authority to address, as appropriate, disproportionate human health or environmental effects, using practicable and legally permissible methods, under Executive Order 12898 (59 FR 7629, February 16, 1994).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Because EPA has made a “good cause”). As explained above, the Agency has made a “good cause” finding that notice and public procedure is impracticable, unnecessary or contrary to the public interest, therefore this rule will be effective upon publication. 5 U.S.C. 808(2). EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the CAA pertaining to petitions for judicial review are not applicable to this action. EPA is not approving or promulgating any SIP provision in this housekeeping action. Prior EPA rulemaking actions for each individual component of the SIPs at issue previously afforded interested parties the opportunity to file a petition for judicial review in the United States Court of Appeals for the appropriate circuit within 60 days of that rulemaking action.

List of Subjects in 40 CFR Part 52

Air pollution control, Carbon monoxide, Environmental Protection Agency, Incorporation by reference, Intergovernmental relations, Lead, Nitrogen dioxide, Ozone, Particulate matter, Reporting and recordkeeping requirements, Sulfur oxides, Volatile organic compounds.

Dated: May 13, 2014.
Heather McTeer Toney,
Regional Administrator, Region 4.

40 CFR part 52 is amended as follows:

PART 52—APPROVAL AND PROMULGATION OF IMPLEMENTATION PLANS

1. The authority citation for part 52 continues to read as follows:

Authority: 42 U.S.C. 7401 et seq.

Subpart B—Alabama

2. Section 52.53 is revised to read as follows:

§ 52.53 Approval status.

With the exceptions set forth in this subpart, the Administrator approves Alabama's plan for the attainment and maintenance of the national standards under section 110 of the Clean Air Act. Furthermore, the Administrator finds that the plan satisfies all requirements of part D, title 1, of the Clean Air Act as amended in 1977.

§ 52.56 [Removed and Reserved]

3. Section 52.56 is removed and reserved.

§ 52.66 [Removed and Reserved]

5. Section 52.66 is removed and reserved.

6. Section 52.69 is revised to read as follows:

§ 52.69 Original identification of plan section.

(a) This section identified the original “Air Implementation Plan for the State of Alabama” and all revisions submitted by Alabama that were federally approved prior to December 1, 1998. The information in this section is available in the 40 CFR, part 52 edition revised as of July 1, 1999, the 40 CFR, part 52, Volume 1 of 2 (§§ 52.01 to 52.1018) editions revised as of July 1, 2000 through July 1, 2011, and the 40 CFR, part 52, Volume 1 of 3 (§§ 52.01 to 52.1018) editions revised as of July 1, 2012.

(b) [Reserved]

(c) [Reserved]

Subpart K—Florida

7. Section 52.522(a) is revised to read as follows:

§ 52.522 Approval status.

(a) With the exceptions set forth in this subpart, the Administrator approves Florida's plan for the attainment and maintenance of the national standards under section 110 of the Clean Air Act. Furthermore, the Administrator finds that the plan satisfies all requirements of part D, title 1, of the Clean Air Act as amended in 1977.

* * * * *

8. Section 52.524 is revised to read as follows:

§ 52.524 Compliance schedule.

(a) The information in this section is available in the 40 CFR, part 52 edition revised as of July 1, 1999, the 40 CFR, part 52, Volume 1 of 2 (§§ 52.01 to 52.1018) editions revised as of July 1, 2000 through July 1, 2011, and the 40 CFR, part 52, Volume 1 of 3 (§§ 52.01 to 52.1018) editions revised as of July 1, 2012.

(b) [Reserved]

§ 52.527 [Removed and Reserved]

9. Section 52.527 is removed and reserved.

§ 52.532 [Removed and Reserved]

10. Section 52.532 is removed and reserved.

11. Section 52.536 is revised to read as follows:

§ 52.536 Original identification of plan section.

(a) This section identified the original “Air Implementation Plan for the State of Florida” and all revisions submitted by Florida that were federally approved prior to July 1, 1998. The information in this section is available in the 40 CFR, part 52 edition revised as of July 1, 1999, the 40 CFR, part 52, Volume 1 of 2 (§§ 52.01 to 52.1018) editions revised as of July 1, 2000 through July 1, 2011, and the 40 CFR, part 52, Volume 1 of 3 (§§ 52.01 to 52.1018) editions revised as of July 1, 2012.

(b) [Reserved]

(c) [Reserved]

Subpart L—Georgia

12. Section 52.590 is revised to read as follows:

§ 52.590 Original identification of plan section.

(a) This section identified the original “Air Implementation Plan for the State of Georgia” and all revisions submitted by Georgia that were federally approved prior to December 1, 1998. The information in this section is available in the 40 CFR, part 52 edition revised as of July 1, 1999, the 40 CFR, part 52, Volume 1 of 2 (§§ 52.01 to 52.1018) editions revised as of July 1, 2000 through July 1, 2011, and the 40 CFR, part 52, Volume 1 of 3 (§§ 52.01 to 52.1018) editions revised as of July 1, 2012.

(b) [Reserved]

(c) [Reserved]

Subpart S—Kentucky

13. Section 52.923(a) is revised to read as follows:

§ 52.923 Approval status.

(a) With the exceptions set forth in this subpart, the Administrator approves Kentucky's plan for the attainment and maintenance of the national standards under section 110 of the Clean Air Act. Furthermore, the Administrator finds that the plan satisfies all requirements of part D, title 1, of the Clean Air Act as amended in 1977.

* * * * *

§ 52.926 [Removed and Reserved]

14. Section 52.934 is removed and reserved.

15. Section 52.927 is revised to read as follows:

§ 52.927 Compliance schedule.

(a) The information in this section is available in the 40 CFR, part 52 edition revised as of July 1, 1999, the 40 CFR, part 52, Volume 1 of 2 (§§ 52.01 to 52.1018) editions revised as of July 1, 2000 through July 1, 2011, and the 40 CFR, part 52, Volume 1 of 3 (§§ 52.01 to 52.1018) editions revised as of July 1, 2012.

(b) [Reserved]

16. Section 52.931(d) is revised to read as follows:

§ 52.931 Significant deterioration of air quality.

* * * * *

(d) All applications and other information required pursuant to § 52.21 of this part from sources located in the Commonwealth of Kentucky shall be submitted to the State agency, Commonwealth of Kentucky, Energy and Environment Cabinet, Department of Environmental Protection, Division for Air Quality, 200 Fair Oaks Lane, 1st Floor, Frankfort, Kentucky 40601-1403 or local agency, Louisville Metro Air Pollution Control District, 850 Barret Avenue, Louisville, Kentucky 40204-1745, rather than to EPA's Region 4 office.

§ 52.934 [Removed and Reserved]

17. Section 52.934 is removed and reserved.

18. Section 52.939 is revised to read as follows:

§ 52.939 Original identification of plan section.

(a) This section identified the original “Air Implementation Plan for the State of Kentucky” and all revisions submitted by Kentucky that were federally approved prior to March 1, 1999. The information in this section is available in the 40 CFR, part 52 edition revised as of July 1, 1999, the 40 CFR, part 52, Volume 1 of 2 (§§ 52.01 to 52.1018) editions revised as of July 1, 2000 through July 1, 2011, and the 40 CFR, part 52, Volume 1 of 3 (§§ 52.01 to 52.1018) editions revised as of July 1, 2012. The Jefferson County portion of the Commonwealth of Kentucky's SIP previously identified in section 52.934(a) and (b) is also available in the above editions.

Subpart Z—Mississippi

19. Section 52.1272 is revised to read as follows:

§ 52.1272 Approval status.

(a) With the exceptions set forth in this subpart, the Administrator approves Mississippi's plan for the attainment and maintenance of the national standards under section 110 of the Clean Air Act. Furthermore, the Administrator finds that the plan satisfies all requirements of part D, title 1, of the Clean Air Act as amended in 1977.

(b) [Reserved]

20. Section 52.1281 is revised to read as follows:

§ 52.1281 Original identification of plan section.

(a) This section identified the original “Air Implementation Plan for the State of Mississippi” and all revisions submitted by Mississippi that were federally approved prior to July 1, 1997. The information in this section is available in the 40 CFR, part 52 edition revised as of July 1, 1999, the 40 CFR, part 52, Volume 2 of 2 (§§ 52.1019 to End) editions revised as of July 1, 2000 through July 1, 2011, and the 40 CFR, part 52, Volume 2 of 3 (§§ 52.1019 to 52.2019) editions revised as of July 1, 2012.

(b) [Reserved]

(c) [Reserved]

Subpart II—North Carolina

21. Section 52.1772(a) is revised to read as follows:

§ 52.1772 Approval status.

(a) With the exceptions set forth in this subpart, the Administrator approves North Carolina's plan for the attainment and maintenance of the national standards under section 110 of the Clean Air Act. Furthermore, the Administrator finds that the plan satisfies all requirements of part D, title 1, of the Clean Air Act as amended in 1977.

* * * * *

22. Section 52.1778(c) is revised to read as follows:

§ 52.1778 Significant deterioration of air quality.

* * * * *

(c) All applications and other information required pursuant to § 52.21 of this part from sources located or to be located in the State of North Carolina shall be submitted to the State agency, North Carolina Department of Environment and Natural Resources, Division of Air Quality, 1641 Mail Service Center, Raleigh, North Carolina 27699-1641 or local agencies, Forsyth County Office of Environmental Assistance and Protection, 201 North Chestnut Street, Winston-Salem, North Carolina 27101-4120; Mecklenburg County Air Quality, 700 N. Tryon St., Suite 205, Charlotte, North Carolina 28202-2236; Western North Carolina Regional Air Quality Agency, 49 Mount Carmel Road, Asheville, North Carolina 28806, rather than to EPA's Region 4 office.

§ 52.1780 [Removed and Reserved]

23. Section 52.1780 is removed and reserved.

24. Section 52.1783 is revised to read as follows:

§ 52.1783 Original identification of plan section.

(a) This section identified the original “Air Implementation Plan for the State of North Carolina” and all revisions submitted by North Carolina that were federally approved prior to December 1, 1998. The information in this section is available in the 40 CFR, part 52 edition revised as of July 1, 1999, the 40 CFR, part 52, Volume 2 of 2 (§§ 52.1019 to End) editions revised as of July 1, 2000 through July 1, 2011, and the 40 CFR, part 52, Volume 2 of 3 (§§ 52.1019 to 52.2019) editions revised as of July 1, 2012.

(b) [Reserved]

(c) [Reserved]

Subpart PP—South Carolina

25. Section 52.2122(a) is revised to read as follows:

§ 52.2122 Approval status.

(a) With the exceptions set forth in this subpart, the Administrator approves South Carolina's plan for the attainment and maintenance of the national standards under section 110 of the Clean Air Act. Furthermore, the Administrator finds that the plan satisfies all requirements of part D, title 1, of the Clean Air Act as amended in 1977.

* * * * *

26. Section 52.2130 is revised to read as follows:

§ 52.2130 Control strategy: Sulfur oxides and particulate matter.

In letters dated May 7, and December 2, 1986, the South Carolina Department of Health and Environmental Control certified that no emission limits in the State's plan are based on dispersion techniques not permitted by EPA's stack height rules. This certification does not apply to Public Service Authority—Winyah, Bowater, and SCE & G—Williams.

27. Section 52.2134 is revised to read as follows:

§ 52.2134 Original identification of plan section.

(a) This section identified the original “Air Implementation Plan for the State of South Carolina” and all revisions submitted by South Carolina that were federally approved prior to July 1, 1997. The information in this section is available in the 40 CFR, part 52 edition revised as of July 1, 1999, the 40 CFR, part 52, Volume 2 of 2 (§§ 52.1019 to End) editions revised as of July 1, 2000 through July 1, 2011, and the 40 CFR, part 52, Volume 3 of 3 (§§ 52.2020 to End) editions revised as of July 1, 2012.

(b) [Reserved]

(c) [Reserved]

Subpart RR—Tennessee

28. In § 52.2222, paragraph (a) is revised and paragraph (c) is removed and reserved.

The revision reads as follows:

§ 52.2222 Approval status.

(a) With the exceptions set forth in this subpart, the Administrator approves Tennessee's plan for the attainment and maintenance of the national standards under section 110 of the Clean Air Act. Furthermore, the Administrator finds that the plan satisfies all requirements of part D, title 1, of the Clean Air Act as amended in 1977.

* * * * *

(c) [Reserved]

29. Section 52.2223 is revised to read as follows:

§ 52.2223 Compliance schedules.

(a) The information in this section is available in the 40 CFR, part 52 edition revised as of July 1, 1999, the 40 CFR, part 52, Volume 1 of 2 (§§ 52.01 to 52.1018) editions revised as of July 1, 2000 through July 1, 2011, and the 40 CFR, part 52, Volume 3 of 3 (§§ 52.2020 to End) editions revised as of July 1, 2012.

(b) [Reserved]

(c) [Reserved]

(d) [Reserved]

(e) [Reserved]

(f) [Reserved]

§ 52.2226 [Removed and Reserved]

30. Section 52.2226 is removed and reserved.

§ 52.2230 [Removed and Reserved]

31. Section 52.2230 is removed and reserved.

§ 52.2233 Significant deterioration of air quality.

32. Section 52.2233(c) is revised to read as follows:

* * * * *

(c) All applications and other information required pursuant to § 52.21 of this part from sources located or to be located in the State of Tennessee shall be submitted to the State agency, Department of Environment and Conservation Division of Air Pollution Control, William R. Snodgrass Tennessee Tower, 312 Rosa L Parks Avenue, 15th Floor, Nashville, TN 37243, or local agencies, Knox County Air Quality Management-Department of Public Health, 140 Dameron Avenue, Knoxville, Tennessee 37917; Metro Public Health Department, Pollution Control Division, 311 23rd Avenue North, Nashville, Tennessee, 37203; Chattanooga-Hamilton County Air Pollution Control Bureau, 6125 Preservation Drive, Chattanooga, Tennessee 37416; Shelby County Health Department, Pollution Control Section, 814 Jefferson Avenue, Memphis, Tennessee 38105, rather than to the EPA's Region 4 office.

33. Section 52.2239 is revised to read as follows:

§ 52.2239 Original Identification of plan section.

(a) This section identified the original “Air Implementation Plan for the State of Tennessee” and all revisions submitted by Tennessee that were federally approved prior to December 1, 1998. The information in this section is available in the 40 CFR, part 52 edition revised as of July 1, 1999, the 40 CFR, part 52, Volume 2 of 2 (§§ 52.1019 to End) editions revised as of July 1, 2000 through July 1, 2011, and the 40 CFR, part 52, Volume 3 of 3 (§§ 52.2020 to End) editions revised as of July 1, 2012. The Nashville-Davidson portion of the Tennessee's SIP previously identified in section 52.2222(c) is also available in the above editions.

(b) [Reserved]

(c) [Reserved]

[FR Doc. 2014-12004 Filed 5-23-14; 8:45 am]

BILLING CODE 6560-50-P